NUCLEAR REGULATORY COMMISSION

10 CFR Parts 170 and 171

RIN: 3150-AH83

Revision of Fee Schedules; Fee Recovery for FY 2006; Correction

AGENCY: Nuclear Regulatory Commission.

ACTION: Final rule; correction.

SUMMARY: This document corrects a final rule appearing in the Federal Register on May 30, 2006 (71 FR 30722) concerning the licensing, inspection, and annual fees charged to NRC applicants and licensees in compliance with the Omnibus Budget Reconciliation Act of 1990, as amended. This action is necessary to correct typographical and printing errors.

DATES: Effective Date: July 31, 2006.

FOR FURTHER INFORMATION CONTACT: Tammy Croote, telephone 301-415-6041; Office of the Chief Financial Officer, U.S. Nuclear Regulatory Commission, Washington, DC 20555-0001.

SUPPLEMENTARY INFORMATION:

1. On page 30735, in the third column, in the last line of the continued paragraph, the reference to “Section III.B.3.a-” is corrected to read “Section III.B.3.a-h”.

2. On page 30741, under Table XIV.—ANNUAL FEE SUMMARY CALCULATIONS FOR THE SPENT FUEL STORAGE/REACTOR DECOMMISSIONING FEE CLASS, in the first column, in the fourth line, the phrase “60 prorated annual fee” is corrected to read “60 percent prorated annual fee”.

§ 171.16 [Corrected]

3. On page 30755, the second sentence of footnote 1 is corrected to read, “However, the annual fee is waived for those materials licenses and holders of certificates, registrations, and approvals who either filed for termination of their licenses or approvals or filed for possession only/storage licenses before October 1, 2005, and permanently ceased licensed activities entirely by September 30, 2005.”

§ 171.19 [Corrected]

4. On page 30756, in the first complete paragraph, the third sentence is corrected to read, “The materials licensees that are billed on the anniversary date of the license are those covered by fee categories 1C, 1D, 2(A)(2), 2(A)(3), 2(A)(4), 2B, 2C, 3A through 3P, and 4B through 9D.”

Dated at Rockville, Maryland, this 2nd day of June, 2006.
For the Nuclear Regulatory Commission.
Peter J. Rabideau,
Acting Chief Financial Officer.

[FR Doc. E6-8923 Filed 6-7-06; 8:45 am]

BILLING CODE 7590-01-P